DEPARTMENT OF TRANSPORTATION

Federal Aviation Administration

14 CFR Part 39

[Docket No. FAA-2004-18573; Directorate Identifier 2003-NM-71-AD; Amendment 39-13847; AD 2004-22-19]

RIN 2120-AA64

Airworthiness Directives; McDonnell Douglas Model MD-11 Airplanes

AGENCY: Federal Aviation Administration (FAA), DOT.

ACTION: Final rule.

SUMMARY: The FAA is adopting a new airworthiness directive (AD) for certain McDonnell Douglas Model MD-11 airplanes. This AD requires revising the cable connection stackups for mid-cabin terminal strips, replacing the terminal strips, and removing a nameplate, as applicable. This AD also requires an inspection for arcing damage in the mid-cabin area, and corrective actions if necessary. This AD is prompted by an incident in which arcing occurred between the power feeder cables and support bracket of the terminal strips. We are issuing this AD to prevent arcing damage to the terminal strips and damage to the adjacent structure, which could result in smoke and/or fire in the mid-cabin compartment.

DATES: This AD becomes effective December 14, 2004.

The incorporation by reference of a certain publication listed in the AD is approved by the Director of the Federal Register as of December 14, 2004.

ADDRESSES: For service information identified in this AD, contact Boeing Commercial Airplanes, Long Beach Division, 3855 Lakewood Boulevard, Long Beach, California 90846, Attention: Data and Service Management, Dept. C1-L5A (D800-0024). You can examine this information at the National Archives and Records Administration (NARA). For information on the availability of this material at NARA, call (202) 741-6030, or go to: http://www.archives.­gov/­federal_­register/code_­of_federal_­regulations/­ibr_locations.html.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section.

FOR FURTHER INFORMATION CONTACT: Technical information: Brett Portwood, Aerospace Engineer, Systems and Equipment Branch, ANM-130L, FAA, Los Angeles Aircraft Certification Office, 3960 Paramount Boulevard, Lakewood, California 90712-4137; telephone (562) 627-5350; fax (562) 627-5210.

Plain language information: Marcia Walters, marcia.walters@faa.gov.

SUPPLEMENTARY INFORMATION: The FAA proposed to amend 14 CFR part 39 with an AD for certain McDonnell Douglas Model MD-11 airplanes. That action, published in the Federal Register on July 13, 2004 (69 FR 41990), proposed to require revising the cable connection stackups for mid-cabin terminal strips, replacing the terminal strips, and removing a nameplate, as applicable. That action also proposed to require an inspection for arcing damage in the mid-cabin area, and corrective actions if necessary.

Comments

We provided the public the opportunity to participate in the development of this AD. No comments have been submitted on the proposed AD or on the determination of the cost to the public.

Conclusion

We have carefully reviewed the available data and determined that air safety and the public interest require adopting the AD as proposed.

Costs of Compliance

This AD will affect about 23 airplanes of U.S. registry and 90 airplanes worldwide. The required actions will take between 5 and 6 work hours per airplane depending on the airplane configuration, at an average labor rate of $65 per work hour. Required parts will cost between $673 and $975 depending on the airplane configuration. The airplane configuration group requiring the fewest number of work hours requires parts that cost approximately $710. Based on these figures, the estimated cost of the AD for U.S. operators is between $1,035 and $1,365 per airplane depending on the airplane configuration.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2004-22-19 McDonnell Douglas: Amendment 39-13847. Docket No. FAA-2004-18573; Directorate Identifier 2003-NM-71-AD.

Effective Date

(a) This AD becomes effective December 14, 2004.

Affected ADs

(b) None.

Applicability

(c) This AD applies to McDonnell Douglas Model MD-11 series airplanes, as listed in paragraph 1.A.1. of McDonnell Douglas Alert Service Bulletin MD11-24A176, dated May 27, 2003; certificated in any category.

Unsafe Condition

(d) This AD was prompted by an incident in which arcing occurred between the power feeder cables and support bracket of the terminal strips. We are issuing this AD to prevent arcing damage to the terminal strips and damage to the adjacent structure, which could result in smoke and/or fire in the mid-cabin compartment.

Compliance

(e) You are responsible for having the actions required by this AD performed within the compliance times specified, unless the actions have already been done.

Revise Wire Connection Stackups; Remove Nameplate, as Applicable; and Inspect for Damage

(f) Within 18 months after the effective date of this AD, do the actions specified in paragraphs (f)(1) and (f)(2) of this AD, in accordance with the Accomplishment Instructions of McDonnell Douglas Alert Service Bulletin MD11-24A176, dated May 27, 2003. Although the service bulletin specifies to submit information to the manufacturer in paragraph 4, “Appendix,” this AD does not include that requirement.

(1) Revise the wire connection stackups, replace the terminal strips for the power feeder cables, and remove nameplates, as applicable, at the affected mid-cabin locations.

(2) Do a general visual inspection to detect arcing damage of the surrounding structure, adjacent system component, and electrical cables in the mid-cabin area.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Corrective Action If Necessary

(g) If any damage is detected during the inspection required by paragraph (f) of this AD, before further flight, repair damage or replace the damaged part with a new part, in accordance with the Accomplishment Instructions of McDonnell Douglas Alert Service Bulletin MD11-24A176, dated May 27, 2003. If the type of structural material that has been damaged is not covered in the Structural Repair Manual, before further flight, repair in accordance with a method approved by the Manager, Los Angeles Aircraft Certification Office (ACO), FAA.

Alternative Methods of Compliance (AMOCs)

(h) The Manager, Los Angeles ACO, FAA, has the authority to approve AMOCs for this AD, if requested using the procedures found in 14 CFR 39.19.

Material Incorporated by Reference

(i) You must use McDonnell Douglas Alert Service Bulletin MD11-24A176, dated May 27, 2003, to perform the actions that are required by this AD, unless the AD specifies otherwise. The Director of the Federal Register approves the incorporation by reference of this document in accordance with 5 U.S.C. 552(a) and 1 CFR part 51. For copies of the service information, contact Boeing Commercial Airplanes, Long Beach Division, 3855 Lakewood Boulevard, Long Beach, California 90846, Attention: Data and Service Management, Dept. C1-L5A (D800-0024). For information on the availability of this material at the National Archives and Records Administration (NARA), call (202) 741-6030, or go to http://www.archives.gov/federal_register/code_of_federal_regulations/ibr_locations.html. You may view the AD docket at the Docket Management Facility, U.S. Department of Transportation, 400 Seventh Street, SW., room PL-401, Nassif Building, Washington, DC.

Issued in Renton, Washington, on October 25, 2004.
Ali Bahrami,
Manager, Transport Airplane Directorate, Aircraft Certification Service

[FR Doc. 04-24622 Filed 11-8-04; 8:45 am]

BILLING CODE 4910-13-P